DEPARTMENT OF TRANSPORTATION

Federal Highway Administration

Environmental Impact Statement: Napa and Solano Counties, CA

AGENCY: Federal Highway Administration (FHWA); DOT.

ACTION: Notice of intent.

SUMMARY: The FHWA is issuing this notice to advise the public that an Environmental Impact Statement will be prepared for a proposed highway project in Napa and Solano Counties, California.

FOR FURTHER INFORMATION CONTACT: Mr. Bill Wong, Acting Team Leader, Project Delivery Team, Federal Highway Administration, 980 9th Street, Sacramento, California 95814-2724, Telephone: (916) 498-5042.

SUPPLEMENTARY INFORMATION: The FHWA, in cooperation with the California Department of Transportation (Caltrans), will prepare an Environmental Impact Statement (EIS) for a proposal to convert an existing two-lane conventional highway into a four-lane divided expressway from the intersection with state Route 29 south of the City of Napa (Napa County) to a point 0.3 kilometer (0.2 mile) west of Interstate 80 in the City of Fairfield (Solano County). The existing highway, State Route 12, is a major east-west link in the interregional road system of the northern Bay Area. The section of highway under consideration is 9.5 kilometers (5.9 miles) long.

FHWA considers it necessary to increase capacity of this highway to provide for existing and projected traffic demand. The existing facility currently operates at full capacity during commute hours and other high-demand hours. By the year 2025, peak period volume is expected to double.

Alternatives currently under consideration are: (1) taking no action; (2) construct a parallel alignment north of the existing roadway to be used for westbound traffic and correct the existing roadway alignment and use it for eastbound traffic; (3) construct a parallel alignment south of the existing roadway to be used for eastbound traffic and correct the existing roadway alignment and use it for westbound traffic; and (4) construct AN alignment that closely follows the existing alignment, with the additional roadway constructed to the north in some sections and the south in some sections, depending on the terrain. Incorporated into and studied with the various build alternatives will be design variations of grade and alignment.

Letters describing the proposed action and soliciting comments will be sent to appropriate federal, state, and local agencies and to private organizations and citizens who have previously expressed or are known to be interested in this proposal. Public scoping meetings will be held in Napa County and in Solano County in October and November 2001. Public notice will be given of the time and place of the scoping meetings. After the draft EIS has been completed, a public hearing will be held. The draft EIS will be available for public and agency review before the public hearing, and public notice will be given of the time and place of the hearing.

To ensure that the full range of issues related to this proposed action is addressed and that all significant issues are identified, comments and suggestions are invited from all interested parties. Comments or questions concerning this proposed action and the EIS should be directed to the FHWA at the address provided above.

Issued on: September 20, 2001.
Dennis A. Scovill,
Team Leader, Planning, Finance, Environment, and Right-of-Way, Sacramento, California.

[FR Doc. 01-25109 Filed 10-5-01; 8:45 am]

BILLING CODE 4910-22-M